DEPARTMENT OF JUSTICE

Office of Community Oriented Policing Services FY 2001 Community Policing Discretionary Grants

AGENCY: Office of Community Oriented Policing Services, Department of Justice.

ACTION: Notice of availability.

SUMMARY: The Department of Justice, Office of Community Oriented Policing Services (“COPS”) announces the availability of funds under the Tribal Resources Grant Program, a program designed to meet the most serious needs of law enforcement in Indian communities through a broadened, comprehensive hiring program that will offer a variety of funding options from salary and benefits for new police personnel to funding for law enforcement training and equipment for new and existing officers. This program, which complements the COPS Office's efforts to fund 100,000 additional community policing officers and to support innovative community policing, will enhance law enforcement infrastructures and community policing efforts in tribal communities which have limited resources and are affected by high rates of crime and violence. Applications should reflect the department's most serious law enforcement needs and must link these needs to the implementation or enhancement of community policing. In addition, a written plan to retain COPS-funded officer positions after Federal funding has ended must be submitted with the grant application.

All Federally Recognized Tribes with established police departments or existing police efforts are eligible to apply. Tribes that wish to establish police departments and meet specific criteria are eligible to apply. Tribes or villages may also apply as a consortium with a written partnership agreement that names a lead agency and describes how requested resources will serve the consortium's population. In addition, tribes that are currently served by Bureau of Indian Affairs (BIA) law enforcement may request funding under this grant program to supplement their existing police services. Tribes whose law enforcement services are exclusively provided by local policing agencies through a contract agreement are not eligible under the COPS TRGP program, but may apply to the COPS Universal Hiring Program for police officer positions only.

DATES: Applications will be sent to all Federally Recognized Tribes with existing law enforcement efforts by February 2001. Tribes or villages that wish to apply as a start-up or consortium may request an application kit from the COPS Office. The deadline for the submission of application is April 16, 2001. Applications must be postmarked by April 16, 2001 to be eligible.

ADDRESSES: To obtain an application or for more information, call the U.S. Department of Justice Response Center at 1-800-421-6770. A copy of the application kit will be available in February on the COPS Office web site at: http://www.usdoj.gov/cops.

FOR FURTHER INFORMATION CONTACT: The U.S. Department of Justice Response Center, 1-800-421-6770 or your grant advisor.

SUPPLEMENTARY INFORMATION:

Overview

The Violent Crime Control and Law Enforcement Act of 1994 (Pub. L. 103-322) authorizes the Department of Justice to make grants to increase deployment of law enforcement officers devoted to community policing on the streets and rural routes in this nation. The Tribal Resources Grant Program is a program developed to meet the most serious needs of law enforcement in Indian communities through a broadened, comprehensive hiring program that will offer a variety of funding options from salary and benefits for new police personnel to funding for law enforcement training and equipment for new and existing officers. This program will enhance law enforcement infrastructures and community policing efforts in these Tribal communities, many of which have limited resources and are affected by high rates of crime and violence.

The Tribal Resources Grant Program is part of a larger Federal initiative which over the last three years, has resulted in the Departments of Interior and Justice working in collaboration to improve law enforcement in tribal communities. Funding has been appropriated to several DOJ agencies including the FBI, the Bureau of Justice Assistance (BJA), the Office of Juvenile Justice and Delinquency Prevention (OJJDP), the Corrections Program Office (CPO), and the COPS Office. COPS is coordinating with these agencies as well as with the Office of Law Enforcement Services of the Bureau of Indian Affairs to ensure that limited resources are not spent on duplicative efforts.

The Tribal Resources Grant will provide tribal communities with the resources to: Hire new police officers; train new and existing officers in community policing, grants management and computer training as well as basic police training at a state academy or the Indian Police Academy in Artesia, NM; and provide basic standard issue equipment, ranging from bullet-proof vests and uniforms, to firearms and portable radios.

The Tribal Resources Grant Program emphasizes deployment of officers and resources into communities that are affected by high rates of crime and violence. Applicants must submit a written plan to retain their COPS-funded officer positions after Federal funding has ended. This plan must be submitted to the COPS Office with the Tribal Resources Grant Program application.

A total of $40,000,000 in funding will be available under the Tribal Resources Grant Program. The grant will cover a maximum Federal Share of 75% of total project costs,, including approved salary and benefits of entry-level police officers (up to a maximum of $75,000 per officer over three years), basic law enforcement training and equipment, vehicles, and technology. A local match requirement of 25% of the total project costs is included in this program. A waiver of the local match requirement may be requested but will be granted only on the basis of documented demonstrated fiscal hardship. Requests for waivers must be submitted with the application.

Tribes whose law enforcemnt services are exclusively provided by local policing agencies through contract arrangements are not eligible under this COPS program. However, tribes that do not meet the eligibility requirements for this program may apply to the COPS Office Universal Hiring Program for police officer positions only.

Receiving an award under the Tribal Resources Grant Program will not preclude grantees from future consideration under other COPS grant programs for which they are eligible.

The Catalog of Federal Domestic Assistance (CFDA) reference for this program is 16.710.

Dated: February 8, 2001.
Ralph Justus,
Acting Director.

[FR Doc. 01-5058 Filed 3-1-01; 8:45 am]

BILLING CODE 4410-AT-M